NUCLEAR REGULATORY COMMISSION

[NRC-2014-0062]

Special Nuclear Material Doorway Monitors

AGENCY: Nuclear Regulatory Commission.

ACTION: Draft regulatory guide; request for comment.

SUMMARY: The U.S. Nuclear Regulatory Commission (NRC) is issuing for public comment draft regulatory guide (DG), DG-5038, “Special Nuclear Material Doorway Monitors.” This guidance addresses NRC requirements that individuals must be searched as they leave a material access area (MAA) for facilities that contain special nuclear material (SNM) of a type and quantity that require an MAA.

DATES: Submit comments by April 25, 2014. Comments received after this date will be considered if it is practical to do so, but the NRC is able to ensure consideration only for comments received on or before this date. Although a time limit is given, comments and suggestions in connection with items for inclusion in guides currently being developed or improvements in all published guides are encouraged at any time.

ADDRESSES: You may submit comments by the following methods (unless this document describes a different method for submitting comments on a specific subject):

• Federal Rulemaking Web site: Go to http://www.regulations.gov and search for Docket ID NRC-2014-0062. Address questions about NRC dockets to Carol Gallagher; telephone: 301-287-3422; email: Carol.Gallagher@nrc.gov. For technical questions, contact the individuals listed in the FOR FURTHER INFORMATION CONTACT section of this document.

• Mail comments to: Cindy Bladey, Chief, Rules, Announcements, and Directives Branch (RADB), Office of Administration, Mail Stop: 3WFN 06A-A44M, U.S. Nuclear Regulatory Commission, Washington, DC 20555-0001.

For additional direction on accessing information and submitting comments, see “Accessing Information and Submitting Comments” in the SUPPLEMENTARY INFORMATION section of this document.

FOR FURTHER INFORMATION CONTACT: Al Tardiff, Office of Nuclear Security and Incident Response, telephone: 301-415-7015, email: Al.Tardiff@nrc.gov or, Richard Jervey, Office of Nuclear Regulatory Research, telephone: telephone: 301-251-7404, email: Richard.Jervey@nrc.gov; U.S. Nuclear Regulatory Commission, Washington, DC 20555-0001.

SUPPLEMENTARY INFORMATION:

I. Accessing Information and Submitting Comments

A. Accessing Information

Please refer to Docket ID NRC-2014-0062 when contacting the NRC about the availability of information regarding this document. You may access information related to this document by the following methods:

• Federal Rulemaking Web site: Go to http://www.regulations.gov and search for Docket ID NRC-2014-0062.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The draft regulatory guide is available electronically under ADAMS Accession Number ML12237A125. The regulatory analysis may be found in ADAMS under Accession No. ML12237A124.

• NRC's PDR: You may examine and purchase copies of public documents at the NRC's PDR, Room O1-F21, One White Flint North, 11555 Rockville Pike, Rockville, Maryland 20852.

Regulatory guides are not copyrighted, and NRC approval is not required to reproduce them.

B. Submitting Comments.

Please include Docket ID NRC-2014-0062 in the subject line of your comment submission, in order to ensure that the NRC is able to make your comment submission available to the public in this docket.

The NRC cautions you not to include identifying or contact information in comment submissions that you do not want to be publicly disclosed. The NRC posts all comment submissions at http://www.regulations.gov as well as entering the comment submissions into ADAMS, and the NRC does not edit comment submissions to remove identifying or contact information.

If you are requesting or aggregating comments from other persons for submission to the NRC, then you should inform those persons not to include identifying or contact information in their comment submissions that they do not want to be publicly disclosed. Your request should state that the NRC will not edit comment submissions to remove such information before making the comment submissions available to the public or entering the comment submissions into ADAMS.

II. Additional Information

The NRC is issuing for public comment a draft guide in the NRC's “Regulatory Guide” series. This series was developed to describe and make available to the public such information as methods that are acceptable to the NRC staff for implementing specific parts of the NRC's regulations, techniques that the staff uses in evaluating specific problems or postulated accidents, and data that the staff needs in its review of applications for permits and licenses.

The DG, entitled, “Special Nuclear Material Doorway Monitors,” is temporarily identified by its task number, DG-5038. Draft Guide-5038 is proposed Revision 1 of Regulatory Guide (RG) 5.27, dated June 1974.

The NRC proposes to update RG 5.27 because it is out of date and not current with contemporary consensus standards and specifications. The detection equipment has changed considerably since the RG was issued in 1974. The proposed revision provides current industry references that are well known and understood by the user community.

The RG applies to facilities that contain SNM of a type and quantity to require an MAA. An MAA is any location which contains special nuclear material, within a vault or a building, the roof, walls, and floor of which each constitute a physical barrier.

III. Backfitting and Issue Finality

This DG, if finalized, would apply to applicants for, and current and future holders of, special nuclear material licenses under part 70 of title 10 of the Code of Federal Regulations (10 CFR), and power reactor licenses under parts 50 and 52 and certificates of compliance or approvals of a compliance plan for gaseous diffusion plants under part 76 if they are also applicants for or holders of special nuclear material licenses under part 70. Issuance of this DG in final form would not constitute backfitting under 10 CFR parts 50, 70, or 76 and would not be otherwise inconsistent with the issue finality provisions in 10 CFR part 52. As discussed in the “Implementation” section of this DG, the NRC has no current intention to impose this regulatory guide on current holders of part 50 operating licenses, part 52 combined licenses, part 70 licensees, or part 76 certificates of compliance. The NRC has determined that the backfit provisions in section 50.109 do not apply to non-power reactor licensees because the rulemaking record for section 50.109 indicates that the Commission likely intended to apply this provision to only power reactors, and NRC practice has been consistent with this rulemaking record. The part 52 issue finality provisions do not apply to non-power reactors because part 52 does not apply to non-power reactors.

This RG could be applied to applications for part 50 operating licenses, part 52 combined licenses, part 70 licenses, and part 76 certificates of compliance docketed by the NRC as of the date of issuance of the final regulatory guide, as well as future such applications submitted after the issuance of the final RG. Such action would not constitute backfitting as defined in 10 CFR 50.109, 70.76, or 76.76, or be otherwise inconsistent with the applicable issue finality provision in 10 CFR part 52, inasmuch as such applicants or potential applicants are not within the scope of entities protected by 10 CFR 50.109, 70.76, and 76.76, or the relevant issue finality provisions in part 52.

Dated at Rockville, Maryland, this 21st day of March, 2014.
For the Nuclear Regulatory Commission.
Thomas H. Boyce,
Chief, Regulatory Guide Development Branch, Division of Engineering, Office of Nuclear Regulatory Research.

[FR Doc. 2014-06649 Filed 3-25-14; 8:45 am]

BILLING CODE 7590-01-P